DEPARTMENT OF LABOR

Employment and Training Administration

[TA-W-55,832]

Davlyn Manufacturing Company, Inc., Spring City; PA; Notice of Termination of Investigation

Pursuant to Section 221 of the Trade Act of 1974, as amended, an investigation was initiated on October 20, 2004, in response to a petition filed by the company on behalf of workers at Davlyn Manufacturing Company, Inc., Spring City, Pennsylvania.

The petitioner has requested that the petition be withdrawn. Consequently, further investigation in this case would serve no purpose, and the investigation has been terminated.

Signed at Washington, DC this 22nd day of November, 2004.
Linda G. Poole,
Certifying Officer, Division of Trade Adjustment Assistance.

[FR Doc. E4-3581 Filed 12-8-04; 8:45 am]

BILLING CODE 4510-30-P